NUCLEAR REGULATORY COMMISSION

[Docket No. 50-400-LR; ASLBP No. 07-855-02-LR-BD01]

Carolina Power & Light Company; Establishment of Atomic Safety and Licensing Board

Pursuant to delegation by the Commission dated December 29,1972, published in the Federal Register, 37 FR 28,710 (1972), and the Commission's regulations, see 10 CFR 2.104, 2.300, 2.303, 2.309, 2.311, 2.318, and 2.321, notice is hereby given that an Atomic Safety and Licensing Board is being established to preside over the following proceeding:

Carolina Power & Light Company (Shearon Harris Nuclear Power Plant, Unit 1)

A Licensing Board is being established pursuant to a March 20, 2007 Notice of Opportunity for Hearing (72 FR 13,139) regarding the November 16, 2006 application for renewal of Operating License No. NPF-63, which authorizes the Carolina Power & Light Company to operate the Shearon Harris Nuclear Power Plant, Unit 1 at 2900 megawatts thermal. The Carolina Power & Light Company renewal application seeks to extend the current operating license for the facility, which expires on October 24, 2026, for an additional twenty years. This proceeding concerns the May 18, 2007 petition for leave to intervene and request for hearing filed by John D. Runkle, Esquire, on behalf of the North Carolina Waste Awareness and Reduction Network, Inc., and the Nuclear Information and Resource Service, Inc.

The Board is comprised of the following administrative judges:

Ann Marshall Young, Chair, Atomic Safety and Licensing Board Panel, U.S. Nuclear Regulatory Commission, Washington, DC 20555-0001.

Dr. Peter S. Lam, Atomic Safety and Licensing Board Panel, U.S. Nuclear Regulatory Commission, Washington, DC 20555-0001.

Dr. Alice C. Mignerey, Atomic Safety and Licensing Board Panel, U.S. Nuclear Regulatory Commission, Washington, DC 20555-0001.

All correspondence, documents, and other materials shall be filed with the administrative judges in accordance with 10 CFR 2.302.

Issued at Rockville, Maryland, this 31st day of May 2007.
E. Roy Hawkens,
Chief Administrative Judge, Atomic Safety and Licensing Board Panel.

[FR Doc. E7-11004 Filed 6-6-07; 8:45 am]

BILLING CODE 7590-01-P